DEPARTMENT OF DEFENSE

Department of the Army; Corps of Engineers

Estuary Habitat Restoration Council; Meeting Cancellation

AGENCY: Department of the Army, U.S. Army Corps of Engineers, DoD.

ACTION: Notice; cancellation.

SUMMARY: The public meeting of the Estuary Habitat Restoration Council scheduled for Wednesday, February 26, 2003 from 10 a.m. to 12 p.m. published in the Federal Register on Monday, February 10, 2003 (68 FR 6725) has been cancelled.

FOR FURTHER INFORMATION CONTACT: Ms. Ellen Cummings, Headquarters, U.S. Army Corps of Engineers, Washington, DC 20314-1000, (202) 761-4558; or Ms. Cynthia Garman-Squier, Office of the Assistant Secretary of the Army (Civil Works), Washington, DC, (703) 695-6791.

SUPPLEMENTARY INFORMATION: None.

Luz D. Ortiz,
Army Federal Register Liaison Officer.

[FR Doc. 03-4405 Filed 2-24-03; 8:45 am]

BILLING CODE 3710-92-M